ENVIRONMENTAL PROTECTION AGENCY

40 CFR Part 300

[EPA-HQ-SFUND-1994-0009; FRL-9932-77-Region 4]

National Oil and Hazardous Substances Pollution Contingency Plan; National Priorities List: Deletion of the National Southwire Aluminum (NSA) Superfund Site

AGENCY: Environmental Protection Agency (EPA).

ACTION: Direct final rule.

SUMMARY: The Environmental Protection Agency (EPA) Region 4 is publishing a direct final Notice of Deletion of the National Southwire Aluminum (NSA) Superfund Site (Site), located in Hawesville, Hancock County, Kentucky, from the National Priorities List (NPL). The NPL, promulgated pursuant to section 105 of the Comprehensive Environmental Response, Compensation, and Liability Act (CERCLA) of 1980, as amended, is an appendix of the National Oil and Hazardous Substances Pollution Contingency Plan (NCP). This direct final deletion is being published by the EPA with the concurrence of the State of Kentucky, through the Kentucky Division of Waste Management (KDWM), because the EPA has determined that all appropriate response actions under CERCLA, other than operation, maintenance, monitoring and five-year reviews, have been completed. However, this deletion does not preclude future actions under Superfund.

DATES: This direct final deletion is effective October 5, 2015 unless the EPA receives adverse comments by September 21, 2015. If adverse comments are received, the EPA will publish a timely withdrawal of the direct final deletion in the Federal Register informing the public that the deletion will not take effect.

ADDRESSES: Submit your comments, identified by Docket ID no. EPA-HQ-SFUND-1994-0009, by one of the following methods:

http://www.regulations.gov. Follow online instructions for submitting comments.

Email: townsend.michael@epa.gov.

Fax: 404 562-8788.

Mail: Michael Townsend, Remedial Project Manager—Superfund Division, U.S. Environmental Protection Agency Region 4, Atlanta Federal Center, 61 Forsyth Street SW., Atlanta, GA 30303.

Hand Delivery: U.S. Environmental Protection Agency Region 4, Atlanta Federal Center, 61 Forsyth Street SW., Atlanta, GA 30303. Such deliveries are only accepted during the Docket's normal hours of operation, and special arrangements should be made for deliveries of boxed information.

Instructions: Direct your comments to Docket ID no. EPA-HQ-SFUND-1994-0009. The EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or email. The http://www.regulations.gov Web site is an “anonymous access” system, which means the EPA will not know your identity or contact information unless you provide it in the body of your comment. If you send an email comment directly to the EPA without going through http://www.regulations.gov, your email address will be automatically captured and included as part of the comment that is placed in the public docket and made available on the Internet. If you submit an electronic comment, the EPA recommends that you include your name and other contact information in the body of your comment and with any disk or CD-ROM you submit. If the EPA cannot read your comment due to technical difficulties and cannot contact you for clarification, the EPA may not be able to consider your comment. Electronic files should avoid the use of special characters, any form of encryption and be free of any defects or viruses.

Docket: All documents in the docket are listed in the http://www.regulations.gov index. Although listed in the index, some information is not publicly available, e.g., CBI or other information whose disclosure is restricted by statue. Certain other material, such as copyrighted material, will be publicly available only in the hard copy. Publicly available docket materials are available either electronically at http://www.regulations.gov or in hard copy at:

Hancock County Public Library

1210 Madison Street, Hawesville, KY 42351. Hours: MTWF 8:30 to 4:30, Thursday 8:30 to 7:00, Saturday 8:30 to 12:00.

FOR FURTHER INFORMATION CONTACT: Michael Townsend, Remedial Project Manager, U.S. Environmental Protection Agency, Region 4, Atlanta Federal Center, 61 Forsyth Street SW., Atlanta, GA 30303; townsend.michael@epa.gov or (404) 562-8813.

SUPPLEMENTARY INFORMATION:

Table of Contents

I. Introduction

II. NPL Deletion Criteria

III. Deletion Procedures

IV. Basis for Site Deletion

V. Deletion Action

I. Introduction

The EPA Region 4 is publishing this direct final Notice of Deletion of the National Southwire Aluminum (Site), from the National Priorities List (NPL). The NPL constitutes Appendix B of 40 CFR part 300, which is the National Oil and Hazardous Substances Pollution Contingency Plan (NCP), which the EPA promulgated pursuant to section 105 of the Comprehensive Environmental Response, Compensation and Liability Act (CERCLA) of 1980, as amended. The EPA maintains the NPL as the list of sites that appear to present a significant risk to public health, welfare or the environment. Sites on the NPL may be the subject of remedial act ions financed by the Hazardous Substance Superfund (Fund). As described in § 300.425(e)(3) of the NCP, sites deleted from the NPL remain eligible for Fund-financed remedial actions if future conditions warrant such actions.

Section II of this document explains the criteria for deleting sites from the NPL. Section III discusses procedures that the EPA is using for this action. Section IV discusses the National Southwire Aluminum Superfund Site and demonstrates how it meets the deletion criteria. Section V discusses the EPA's action to delete the Site from the NPL unless adverse comments are received during the public comment period.

II. NPL Deletion Criteria

The NCP establishes the criteria that the EPA uses to delete sites from the NPL. In accordance with 40 CFR 300.425(e), sites may be deleted from the NPL where no further response is appropriate. In making such a determination pursuant to 40 CFR 300.425(e), the EPA will consider, in consultation with the state, whether any of the following criteria have been met:

i. Responsible parties or other persons have implemented all appropriate response actions required;

ii. all appropriate Fund-financed response under CERCLA has been implemented, and no further response action by responsible parties is appropriate; or

iii. the remedial investigation has shown that the release poses no significant threat to public health or the environment and, therefore, the taking of remedial measures is not appropriate.

Pursuant to CERCLA section 121(c) and the NCP, the EPA conducts five-year reviews to ensure the continued protectiveness of remedial actions where hazardous substances, pollutants or contaminants remain at a site above levels that allow for unlimited use and unrestricted exposure. The EPA conducts such five-year reviews even if a site is deleted from the NPL. The EPA may initiate further action to ensure continued protectiveness at a deleted site if new information becomes available that indicates it is appropriate. Whenever there is a significant release from a site deleted from the NPL, the deleted site may be restored to the NPL without application of the hazard ranking system.

III. Deletion Procedures

The following procedures apply to deletion of the Site:

(1) The EPA consulted with the state of Kentucky prior to developing this direct final Notice of Deletion and the Notice of Intent to Delete co-published today in the “Proposed Rules” section of the Federal Register.

(2) The EPA has provided the state 30 working days for review of this notice and the parallel Notice of Intent to Delete prior to their publication today, and the state, through the Kentucky Division of Waste Management (KDWM), has concurred on the deletion of the Site from the NPL.

(3) Concurrently with the publication of this direct final Notice of Deletion, a notice of the availability of the parallel Notice of Intent to Delete is being published in the Hancock County Clarion. The newspaper notice announces the 30-day public comment period concerning the Notice of Intent to Delete the Site from the NPL.

(4) The EPA placed copies of documents supporting the proposed deletion in the deletion docket and made these items available for public inspection and copying at the Site information repositories identified above.

(5) If adverse comments are received within the 30-day public comment period on this deletion action, the EPA will publish a timely notice of withdrawal of this direct final Notice of Deletion before its effective date and will prepare a response to comments and continue with the deletion process on the basis of the Notice of Intent to Delete and the comments already received.

Deletion of a site from the NPL does not itself create, alter or revoke any individual's rights or obligations. Deletion of a site from the NPL does not in any way alter the EPA's right to take enforcement actions, as appropriate. The NPL is designed primarily for informational purposes and to assist the EPA management. Section 300.425(e)(3) of the NCP states that the deletion of a site from the NPL does not preclude eligibility for future response actions, should future conditions warrant such actions.

IV. Basis for Site Deletion

The following information provides the EPA's rationale for deleting the Site from the NPL:

1. Site Background and History

The Comprehensive Environmental Response, Compensation and Liability Information System (CERCLIS) EPA ID Number of the NSA Site is KYD049062375. The Site is an active aluminum reduction facility located in Hancock County, Kentucky, a sparsely populated area on the south bank of the Ohio River. The Site is located 4 miles northwest of the town of Hawesville and across the Ohio River from the Indiana cities of Cannelton and Tell City. The land surface is characterized by low relief and lies approximately 40 feet above the local normal water level of the Ohio River.

The facility area, including adjacent agricultural land, is 1,100 acres. The aluminum reduction activities take place in a 475-acre area located to the east of State Route 334 and to the north of State Route 3543. Public access to the Site is restricted by a chain-link fence. In addition, access to and from the plant area is controlled by a guardhouse located at the State Route 3543 entrance. Southwire operated the facility from 1969 to 2001. In April 2001, Southwire transferred ownership of the facility and the majority of the former NSA property to Century Aluminum of Kentucky, LLC (Century). Century continues to operate the aluminum reduction facility. Southwire retained responsibility for completion of the remedy and also maintains ownership of a small parcel on the northwestern part of the property (referred to as the Southwire Outlot).

There were two primary historic practices that contributed to the contamination at the Site. These included the removal, replacement and disposal of spent potliners in an uncontrolled manner and the use of polychlorinated biphenyl (PCB) heat transfer fluids as part of pitch operations. These activities adversely affected the Site soil and groundwater. In 1986, the KDWM performed a preliminary assessment at the Site and identified the presence of cyanide in groundwater. A Site Scoring Investigation was performed by the EPA and completed in 1991. The EPA proposed to add the Site to the NPL in the June 29, 1991 Federal Register. The Site was listed final on the NPL: 27989-27996 Federal Register Vol. 59, No. 103, on May 31, 1994.

A Non-Time Critical Removal Action (NTCRA) was completed in 1997 at the South Slurry Pond to reduce the migration of fluoride and cyanide to groundwater.

2. Remedial Investigation and Feasibility Study (RI/FS)

The Remedial Investigation (RI) was performed to further characterize the nature and extent of known areas of contamination, to ascertain the presence or absence of any additional areas of concern at the Site, and to describe the fate and transport of the contaminants present.

The analytical results of the RI/FS indicated the presence of two cyanide contaminated groundwater plumes. The north plume extended eastward from the Potliner Disposal Area to the Ohio River, and contained maximum concentrations of 21 milligrams per Liter (mg/L) total cyanide and 1.5 mg/L free cyanide. The total and free cyanide concentrations decreased at the river to 0.723 mg/L and 0.445 mg/L, respectively. The south plume extended bi-directionally from the area of the Spent Potliner Accumulation Building eastward to the river and southwestward to the plant's industrial water supply wells. Total cyanide levels were 0.142 mg/L or less, while free cyanide levels in groundwater sampled from wells near the river were 0.02 mg/L or less. The RI/FS also reported the presence of fluoride and heavy metals in groundwater. The RI/FS indicated that fluoride mobility was naturally limited by precipitation of calcium fluoride. The heavy metals identified in groundwater were addressed by the Record of Decision (ROD), and the EPA determined that it seemed unlikely that the expenditure of resources on an area-wide sampling and cleanup effort would bring a measurable improvement to ecological risk with regard to metals.

The analytical results of the RI/FS also indicated the presence of PCBs and polycyclic aromatic hydrocarbons (PAHs) in Site soils. These constituents were generally identified in carbon and/or pitch handling areas at the Site. Concentrations of PCBs were as high as 2,800 milligrams per kilogram (mg/Kg) in the subsurface soil at the Green Carbon pitch handling areas where spills occurred. Low concentrations of PCBs (<50 mg/Kg) were also identified in a few other isolated areas of the Site, such as the Refractory Brick Disposal Areas (RBDAs). Detailed information regarding the findings of the RI/FS activities can be found in the 1997 Remedial Investigation Report and the 1998 Feasibility Study Report.

3. Selected Remedy

The ROD identified seven (7) areas of concern based on the results of the RI/FS, the Baseline Risk Assessment (BRA) and the Ecological Risk Assessment (ERA). These focus areas included the following:

(1) Green Carbon PCB Spill Area

(2) RBDAs

(3) Taylors Wash Landfill

(4) Drum Storage Area

(5) PCB Soil Stockpile Area

(6) Site-wide Groundwater

(7) South Slurry Pond

The remedial action objectives (RAOs) presented in the ROD for the seven (7) focus areas, consisted of the following:

Minimize direct contact by Site workers and the public with soil containing excessive levels of PCBs,

Minimize direct contact by Site workers and the public with soil containing excessive levels of PAH compounds,

Minimize transport of contaminated soil by erosion to water courses, including the Ohio River,

Minimize potential leaching of total PCBs to Site groundwater from areas of high concentrations,

Remediate groundwater contaminated with elevated levels of cyanide and fluoride, and

Prevent deterioration of the Old South Slurry Pond containment system.

The NTCRA at the South Slurry Pond was conducted to reduce the migration of fluoride and cyanide to groundwater. Groundwater with elevated levels of fluoride is naturally limited by the precipitation of calcium fluoride. Groundwater with elevated levels of cyanide was treated at the OU1 Groundwater Extraction and Treatment System (GETS).

The ROD presented the selected remedy to achieve these RAOs at each of the seven (7) focus areas. These seven (7) focus areas and the selected remedy presented in the ROD for each area is as follows:

Green Carbon PCB Spill Area (Central Plant)

Land-use and groundwater-use deed restrictions; surface and subsurface “hot spot” removal to off-site secure landfill; rerouting utilities, where necessary; installation of a low-permeability multimedia cap; operational controls to limit physical contact; monitoring of groundwater for PCBs; material with lower-level PCB contamination disposed under the new Taylors Wash Landfill cap and cover.

RBDAs (West of State Route 334)

Land-use and groundwater-use deed restrictions; install soil erosion cap, establish a grass cover, and install fencing with warning signs; remove layer of sediment from lengths of the Drainage Ditch and Muddy Gut Tributary and dispose under the new Taylors Wash Landfill cap and cover or dispose off-site with other PCB soils.

Taylors Wash Landfill (Eastern Plant)

Deed restrictions; collection and treatment of leachate utilizing a new force main from the Landfill to the existing groundwater treatment plant; install RCRA Subtitle D multi-media cap and cover; install fencing with warning signs.

Drum Storage Area (Southern Plant)

Determine PCB and other contaminant of concern (COC) concentrations of `hotspots'; excavate `hot spots' and dispose of contaminated material under the new Taylors Wash Landfill cap; cover excavations with clean fill and appropriate surface treatment.

PCB Soil Stockpile Area (Eastern Plant)

Excavate one foot of existing surface soils over the entire Area and dispose under the Taylors Wash Landfill cap after confirming PCB concentrations; install erosion cap over Area and establish grass cover.

Site-Wide Groundwater

Impose deed restrictions for groundwater use where not already imposed; continue groundwater extraction and treatment as required by April 14, 1994 Remedial Design/Remedial Action (RD/RA) Consent Decree (operate and maintain Groundwater Extraction and Treatment System); monitor Site-wide groundwater and Groundwater Treatment System Kentucky Pollution Discharge Elimination System (KPDES) discharge; investigate soils under Spent Potliner Accumulation Building.

South Slurry Pond (Northern Plant)

Maintain existing cap and cover; impose land-use deed restrictions for all four (4) ponds; monitor groundwater as a part of the Site-wide groundwater monitoring.

The ROD was completed in July 2000, the SOW was completed in November 2000 and the Consent Decree (CD) was entered in U.S. District Court on March 8, 2004. The initial response activities associated with OU1 and the NTCRA were completed in 1997 before issuance of the ROD. The remedial design activities associated with OU2 commenced following execution of the CD. There are no Amendments or Explanations of Significant Differences to the 2000 ROD.

4. Response Actions

Operable Unit No. 1

The Interim Record of Decision (IROD) was issued in 1993, and a CD for the interim remedial action activities was executed in 1994. The IROD focused on reducing cyanide in groundwater and is referred to as OU1. The Interim Remedial Action Groundwater Pumping and Treatment System Remedial Design (IRA RD) was completed in 1994. The GETS design included an extraction well network consisting of six total wells installed in the cores of the north and south plume to maximize the withdrawal of cyanide-contaminated groundwater. The groundwater treatment plant was designed to remove iron-complexed cyanide using ferrous precipitation and settling. The treatment process involved five basic steps: cyanide precipitation, cyanide solids removal, ferric iron precipitation, iron solids removal, and dewatering of the combined sludge from the two solids removal steps. The GETS was designed to discharge treated groundwater to the Ohio River under the terms of a KPDES Permit. In addition, the Performance Standards Verification Plan (PSVP) developed as part of the IRA RD included a system of thirty-seven (37) groundwater monitoring wells sampled on a quarterly or annual basis for total and free cyanide.

The remedial action activities associated with OU1 commenced in 1995, with the startup of the GETS. The GETS operated from 1995 through 2010, when the performance standards for OU1 were met. The GETS collected groundwater from up to six extraction wells operating in the north and/or south plumes at rates of up to 690,000 gallons per month under Kentucky Water Withdrawal Permit No. 1330. Groundwater was treated at the on-site groundwater treatment plant and discharged to the Ohio River in accordance with a KPDES Permit. Effluent from the groundwater treatment plant was monitored bi-weekly in accordance with the permit. The extraction wells were monitored on a monthly basis, and monitoring wells associated with OU1 were monitored on a quarterly or annual basis during GETS operation. The GETS operation and monitoring results have been documented in the Monthly Progress Reports required by the CD. Detailed information regarding the OU1 cleanup activities can primarily be found in the 2011 Remedial Action Report, which includes the 2011 OU1 Performance Standards Verification Report as an attachment.

Operable Unit No. 2

The ROD was issued in 2000, and a CD for the remedial action activities was executed in 2004. With regard to OU2, the ROD primarily focused on the removal and management and/or containment of surface and subsurface soils from five specific focus areas contaminated with PCBs. The design criteria established in the ROD followed the self-implementing provisions of the Toxic Substances Control Act (TSCA) defined in 40 Code of Federal Regulations (CFR) 761.61(a)(4)(i). In summary, the design criteria under TSCA required:

High-Occupancy Areas: The removal of PCB bulk remediation waste to a level less than 1.0 mg/Kg total PCBs, or removal to a level less than 10.0 mg/Kg total PCBs and covered with a protective soil cap.

Low-Occupancy Areas: The removal of PCB bulk remediation waste to a level less than or equal to 25 mg/Kg total PCBs, to a level less than or equal to 50 mg/Kg total PCBs if the areas is secured by a fence and marked with signage, or to a level of less than or equal to 100 mg/Kg total PCBs if the area is appropriately capped.

The plans for meeting the criteria established in the ROD were developed in the Final RD/RA Submittal and approved by the EPA in 2006. The RD/RA was designed to meet the criteria defined above through a series of remedial actions that are further described below.

The remedial action activities associated with OU2 commenced in 2007, and were substantially complete in 2008, when the performance standards associated with this operable unit were achieved. The remedial action activities were specific to five focus areas and are summarized below:

Green Carbon PCB Spill Area: The remedial action activities in the Green Carbon Area primarily required the excavation and removal of materials (mainly soils) potentially contaminated with PCBs from depths of 2 to 14 feet. During material removal activities, confirmatory/verification sampling and material characterization activities were conducted in accordance with the approved RD/RA. Following material characterization, the removed materials were staged in the Taylor's Wash Landfill Area and ultimately disposed of either at Taylor's Wash, at a RCRA Subtitle D Landfill or at a TSCA-equivalent disposal facility in accordance with the provisions of the ROD and RD/RA. A multi-layer cap was installed in the deep excavation areas (depths up to 14). Clean fill materials and, ultimately, pavements (concrete or asphalt) were installed above the multi-layer cap. In shallow excavation areas (depths up to 2 feet), the RD/RA included a layer of clean fill materials and/or concrete pavement. The activities were completed in December 2007.

Drum Storage Area: The remedial action activities in the Drum Storage Area primarily required the excavation of soil materials potentially contaminated with PCBs or PAHs to depths of up to 2 feet. During material removal activities, confirmatory/verification sampling and material characterization activities were conducted in accordance with the approved RD/RA. Following material characterization, the removed materials were staged in the Taylor's Wash Landfill Area and ultimately disposed of either at Taylor's Wash, at a RCRA Subtitle D Landfill or at a TSCA-equivalent disposal facility in accordance with the provisions of the ROD and RD/RA. Clean fill materials were placed in the excavation areas. The activities were completed in September 2007.

Refractory Brick Disposal Areas: The cleanup activities in the RBDAs primarily required the regrading of existing materials and the installation of a 2-foot soil cap with a minimum of one percent slope. In addition, the preliminary design activities conducted in 2005 identified wetlands in the vicinity of the RBDAs. The RD/RA included provisions to minimize disturbance to wetlands in the vicinity of the RBDAs and to restore the areas following wetlands mitigation principles. The activities were completed in November 2007.

PCB Soil Stockpile Area: The cleanup activities at the PCB Soil Stockpile Area primarily required the installation of a 2-foot soil cap with a minimum of one percent slope. The activities were completed in September 2007.

Taylor's Wash Landfill: The cleanup activities at the Taylor's Wash Landfill primarily consisted of the regrading of excavated soils from the Green Carbon and Drum Storage Areas with PCB concentrations of less than 25 mg/Kg. Following the regrading activities, the ROD required the installation of a multi-layer cap and vegetative cover system. These activities were completed in July 2008. In addition, as the ROD required, activities related to the collection and treatment of leachate from the landfill for a period of one year, or until other established criteria had been met, were implemented. Leachate from the landfill was pre-treated adjacent to the Taylor's Wash Landfill area and treated at the OU1 groundwater treatment plant. The leachate treatment activities were completed in August 2009.

In addition to the cleanup activities described above, the ROD also required the installation of fencing at the Taylor's Wash Landfill and the RBDAs, and the installation of warning signs to prevent digging or excavation at the Green Carbon Area, RBDAs, PCB Soil Stockpile Area and Taylor's Wash Landfill. These activities were completed by August 2008. Detailed information regarding the OU2 cleanup activities can be found in the 2011 Remedial Action Report.

The EPA and the KDWM have indicated that all remedial action construction activities, including the implementation of institutional controls, were performed in compliance with the ROD and in accordance with the Final Remedial Design (RD). In 2013, the EPA prepared a Final Close Out Report to document the completion of the remedial action activities.

5. Cleanup Goals

Demonstration of Cleanup Activity Quality Assurance and Quality Control (QA/QC)

The construction and operation and maintenance QA/QC requirements related to the Site are included as appendices to the 2006 RD/RA that encompassed all areas of concern and was approved by the EPA in June 2006. The RD/RA included the Construction Quality Assurance Project Plan (specific to OU2) and the Field Sampling Plan (inclusive of OU1 and OU2). These work controlling documents are consistent with the requirements of the IROD and ROD. Southwire retained URS to serve in the role of the Quality Assurance firm and to document that the QA/QC protocol was followed.

A significant number of QA/QC reports were developed during implementation of cleanup activities at both OU1 and OU2. The reports consisted of, but were not limited to, material certifications, air monitoring data, groundwater monitoring and extraction well analytical data, treatment system discharge analytical data, soil confirmation data, liner testing results, waste characterization data, Site surveys and field observations. As demonstrated by the reports, the requirements and standards of performance for the various remedy components have been met and sampling and analysis protocol has been followed.

The QA/QC information and activities described above have been documented in the Monthly Progress Reports for the Site, the 2011 Remedial Action Report and the 2013 Final Close-Out Report.

6. Operation and Maintenance

Summary of Operation and Maintenance Required

A detailed description of the required Operations and Maintenance Manual (O&M) activities specific to the Site can be found in the 2008 Operations and Maintenance Manual for OU1, OU2 and South Slurry Pond Remedial Action Activities (O&M Manual). The manual was developed to be inclusive of all Superfund-related O&M activities required at the Site and will be updated as needed.

The O&M activities for OU1 were related to groundwater monitoring and operation of the GETS. The activities related to OU1 were completed in May 2010. The O&M activities for South Slurry Pond are related to groundwater monitoring and inspection of the cap/cover system. The South Slurry Pond activities are anticipated to continue for a total of thirty (30) years, or through 2027. The O&M activities for OU2 are primarily related to inspection of the installed cap and/or cover systems. These activities related to OU2 are anticipated to continue for a total of thirty (30) years, or through 2038.

The O&M activities for OU2 and the South Slurry Pond are ongoing and consist primarily of field inspection/observation activities and groundwater monitoring. The following list is a general overview of the O&M activities at the Site.

Inspect vegetative/erosion/pavement caps for erosion, rutting, settlement, ponding or other significant damage.

Inspect fencing, gates and locks for significant breaches and operability.

Observe signage is in required locations and visible.

Observe stormwater systems and confirm operating without restrictions, significant silt buildup, debris, etc.

Observe monitoring well casings and locks for damage.

Review groundwater monitoring records to confirm that the appropriate monitoring has been conducted.

Continued groundwater monitoring associated with the south slurry pond.

The O&M activities will continue to be implemented by Southwire and an annual O&M Monitoring Report for the Site will be prepared in accordance with the O&M Manual. More detailed information related to the required O&M at the Site can be found in the O&M Manual.

Institutional Controls

The ROD required the development of Institutional Controls in the form of Environmental Covenants to restrict groundwater and land use at the Site. Two Environmental Covenants were prepared for the Site, one for Century's property and one for the Out lot containing the former waste impoundments owned by Southwire. These Environmental Covenants were developed, approved by the EPA and KDWM\ and recorded at the Hancock County Court in November 2010. The Environmental Covenants include the following provisions, as required by the ROD:

No residential use of the Site,

No potable water use of groundwater at the Site, and

No soil disturbance, cap disturbance or construction is permitted within the identified focus areas without first obtaining approval from the EPA and KDWM.

The Institutional Controls are maintained and enforced by the current Site owners, Southwire and Century.

7. Five-Year Reviews

Pursuant to CERCLA section 121(c), 42 U.S.C. 9601 et seq., and the EPA's Five-Year Review Guidance, and because this remedy will result in hazardous substances, pollutants or contaminants remaining on-site above levels that allow for unlimited use and unrestricted exposure, a statutory review must be conducted every five years after initiation of remedial activities at the Site. The objective of the Five-Year Review is to ensure that the remedy continues to be protective of human health and the environment. The First Five-Year Review was completed in 2001, and the Second Five-Year Review was completed in 2006. The Third-Five Year Review was signed on September 1, 2011.

The protectiveness statement from the Third Five-Year Review indicated that all remedial activities at the Site are complete, the cleanup requirements have been met and the remedial action is protective of human health and the environment. The Fourth Five-Year Review is required to be completed on or before September 1, 2016.

8. Community Involvement

As part of preparation for the IROD, a public comment period was held from January 7, 1993 to February 7, 1993, and comment response was included in the IROD.

As part of preparation for the ROD, a public comment period was held from July 28, 1999 to August 28, 1999 and comment response was included in the ROD.

As part of the preparation for the Five-Year Review—a public notice was published in the Hancock County Clarion (local newspaper), on May 5, 2011, announcing the commencement of the Five-Year Review process for the National Southwire Aluminum Superfund Site inviting community participation. In addition, the Five-Year Review report will be made available to the public once it has been finalized.

9. Determination That the Site Meets the Criteria for Deletion in the NCP

The NSA Site meets all of the site completion requirements specified in 40 CFR 400.325(e) and the Office of Solid Waste and Emergency Response (OSWER) Directive 9320.2-22, Close Out Procedures for NPL Sites. Specifically, the QA/QC information for the Site indicates that the ROD specified performance standards and remedial action objectives have been achieved at all identified areas of concern. Therefore, the implemented remedy achieves the degree of cleanup and protection specified in the ROD, and no further Superfund response is needed at the Site to be protective of human health and the environment. The selected remedial and removal actions and associated cleanup goals are consistent with EPA policy and guidance. The O&M activities will be continued by Southwire to ensure continued protectiveness of the remedy.

V. Deletion Action

The EPA, with concurrence of the State of Kentucky through the Kentucky Division of Waste Management, has determined that all appropriate response actions under CERCLA, other than operation, maintenance, monitoring and five-year reviews have been completed. Therefore, the EPA is deleting the Site from the NPL.

Because the EPA considers this action to be noncontroversial and routine, the EPA is taking it without prior publication. This action will be effective October 5, 2015 unless the EPA receives adverse comments by September 21, 2015. If adverse comments are received within the 30-day public comment period, the EPA will publish a timely withdrawal of this direct final notice of deletion before the effective date of the deletion, and it will not take effect. The EPA will prepare a response to comments and continue with the deletion process on the basis of the notice of intent to delete and the comments already received. There will be no additional opportunity to comment.

List of Subjects in 40 CFR Part 300

Environmental protection, Air pollution control, Chemicals, Hazardous waste, Hazardous substances, Intergovernmental relations, Penalties, Reporting and recordkeeping requirements, Superfund, Water pollution control, Water supply.

Dated: August 6, 2015.
Heather McTeer Toney,
Regional Administrator, Region 4.

For the reasons set out in this document, 40 CFR part 300 is amended as follows:

PART 300—NATIONAL OIL AND HAZARDOUS SUBSTANCES POLLUTION CONTINGENCY PLAN

1. The authority citation for part 300 continues to read as follows:

Authority: 33 U.S.C. 1321(c)(2); 42 U.S.C. 9601-9657; E.O. 12777, 56 FR 54757, 3 CFR, 1991 Comp., p. 351; E.O. 12580, 52 FR 2923; 3 CFR, 1987 Comp., p. 193.

Appendix B to Part 300—[Amended]

2. Table 1 of Appendix B to part 300 is amended by removing “KY”, “National Southwire Aluminum Co”, “Hawesville”.

[FR Doc. 2015-20611 Filed 8-20-15; 8:45 am]

BILLING CODE 6560-50-P